DEPARTMENT OF HEALTH AND HUMAN SERVICES

National Institutes of Health

National Institute of Allergy and Infectious Diseases; Amended Notice of Meeting

Due to the recent tragic events in the United States and resultant travel limitations, notice is hereby given of changes to the meeting of the AIDS Research Advisory Committee, National Institute of Allergy and Infectious Diseases, September 24, 2001, 1:30 PM to 6 PM, Natcher Building, Conference Rooms E1/E2, Bethesda, MD 20892 which was published in the Federal Register on August 29, 2001, 66 FR, 44365.

The meeting now will be held at 6700B Rockledge Drive, Room 1205, Bethesda MD 20817 from 12:30 pm to 6 pm. The meeting will remain open to the public, with attendance limited to space available.

Dated: September 19, 2001.
LaVerne Y. Stringfield,
Director, Office of Federal Advisory Committee Policy.

[FR Doc. 01-24362 Filed 9-27-01; 8:45 am]

BILLING CODE 4140-01-M